DEPARTMENT OF ENERGY

Federal Energy Regulatory Commission

Combined Notice of Filings #1

Take notice that the Commission received the following electric corporate filings:

Docket Numbers: EC11-60-000.

Applicants: Duke Energy Corporation, Progress Energy, Inc.

Description: Additional information of Duke Energy Corporation and Progress Energy, Inc. regarding their application for approval of their proposed merger.

Filed Date: 08/29/2011.

Accession Number: 20110829-0016.

Comment Date: 5 p.m. Eastern Time on Tuesday, September 6, 2011.

Docket Numbers: EC11-110-000.

Applicants: Liberty Electric Power, LLC.

Description: Section 203 Application of Liberty Electric.

Filed Date: 08/26/2011.

Accession Number: 20110826-5169.

Comment Date: 5 p.m. Eastern Time on Friday, September 16, 2011.

Docket Numbers: EC11-111-000.

Applicants: MATL LLP, Enbridge Inc., Montana Alberta Tie, Ltd.

Description: Joint Application for Authorization of Transaction Under Section 203 of the Federal Power Act and Request for Expedited Consideration of Enbridge Inc., et al.

Filed Date: 08/26/2011.

Accession Number: 20110826-5171.

Comment Date: 5 p.m. Eastern Time on Friday, September 16, 2011.

Take notice that the Commission received the following electric rate filings:

Docket Numbers: ER08-1281-009.

Applicants: New York Independent System Operator, Inc.

Description: Report/Form of New York Independent System Operator, Inc.

Filed Date: 08/26/2011.

Accession Number: 20110826-5173.

Comment Date: 5 p.m. Eastern Time on Friday, September 16, 2011.

Docket Numbers: ER11-4376-000.

Applicants: AEP Texas North Company.

Description: AEP Texas North Company submits tariff filing per 35.13(a)(2)(iii): 20110826 TNC-Kaiser Creek Wind SUA to be effective 7/21/2011.

Filed Date: 08/26/2011.

Accession Number: 20110826-5030.

Comment Date: 5 p.m. Eastern Time on Friday, September 16, 2011.

Docket Numbers: ER11-4377-000.

Applicants: Public Service Company of Colorado.

Description: Public Service Company of Colorado submits tariff filing per 35.13(a)(2)(iii): 2011-8-26_314-PSCo_NXPM_Limon Wind EP Agrmt to be effective 8/11/2011.

Filed Date: 08/26/2011.

Accession Number: 20110826-5050.

Comment Date: 5 p.m. Eastern Time on Friday, September 16, 2011.

Docket Numbers: ER11-4378-000.

Applicants: Southwest Power Pool, Inc.

Description: Southwest Power Pool, Inc. submits tariff filing per 35.13(a)(2)(iii): 2205 City of Larned, Kansas Interconnection Agreement to be effective 7/28/2011.

Filed Date: 08/26/2011.

Accession Number: 20110826-5074.

Comment Date: 5 p.m. Eastern Time on Friday, September 16, 2011.

Docket Numbers: ER11-4379-000.

Applicants: PJM Interconnection, LLC.

Description: PJM Interconnection, LLC submits tariff filing per 35.13(a)(2)(iii): Revisions to the Tariff Schedule 12-Appendix re RTEP Upgrades per Board Approval to be effective 11/24/2011.

Filed Date: 08/26/2011.

Accession Number: 20110826-5089.

Comment Date: 5 p.m. Eastern Time on Monday, September 26, 2011.

Docket Numbers: ER11-4380-000.

Applicants: Bellevue Solar, LLC.

Description: Bellevue Solar, LLC submits tariff filing per 35.12: Bellevue Solar Baseline MBR Application Filing to be effective 9/19/2011.

Filed Date: 08/26/2011.

Accession Number: 20110826-5095.

Comment Date: 5 p.m. Eastern Time on Friday, September 16, 2011.

Docket Numbers: ER11-4381-000.

Applicants: Yamhill Solar, LLC.

Description: Yamhill Solar, LLC submits tariff filing per 35.12: Yamhill Solar Baseline MBR Application Filing to be effective 9/19/2011.

Filed Date: 08/26/2011.

Accession Number: 20110826-5100.

Comment Date: 5 p.m. Eastern Time on Friday, September 16, 2011.

Docket Numbers: ER11-4382-000.

Applicants: PJM Interconnection, LLC.

Description: PJM Interconnection, LLC submits tariff filing per 35.13(a)(2)(iii): Revisions to the Tariff & OA re Demand Response in Regulation Markets to be effective 10/25/2011.

Filed Date: 08/26/2011.

Accession Number: 20110826-5101.

Comment Date: 5 p.m. Eastern Time on Friday, September 16, 2011.

Docket Numbers: ER11-4383-000.

Applicants: Public Service Company of New Hampshire.

Description: Public Service Company of New Hampshire submits tariff filing per 35.12: Groton Wind LLC Design, Engineering and Procurement Agreement to be effective 8/26/2011.

Filed Date: 08/26/2011.

Accession Number: 20110826-5114.

Comment Date: 5 p.m. Eastern Time on Friday, September 16, 2011.

Docket Numbers: ER11-4384-000.

Applicants: California Independent System Operator Corporation.

Description: California Independent System Operator Corporation submits tariff filing per 35: 2011-08-26 CAISO Petition for Waiver of Tariff Provision to be effective N/A.

Filed Date: 08/26/2011.

Accession Number: 20110826-5155.

Comment Date: 5 p.m. Eastern Time on Thursday, September 08, 2011.

Take notice that the Commission received the following electric securities filings:

Docket Numbers: ES10-3-001.

Applicants: Mississippi Power Company.

Description: Amendment to Application of Mississippi Power Company under ES10-3.

Filed Date: 08/26/2011.

Accession Number: 20110826-5174.

Comment Date: 5 p.m. Eastern Time on Friday, September 16, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 29, 2011.
Nathaniel J. Davis, Sr.,
Deputy Secretary.

[FR Doc. 2011-22737 Filed 9-6-11; 8:45 am]

BILLING CODE 6717-01-P